NATIONAL AERONAUTICS AND SPACE ADMINISTRATION

[Notice (01-043)]

NASA Advisory Council (NAC), Technology and Commercialization Advisory Committee (TCAC); Meeting

AGENCY: National Aeronautics and Space Administration.

ACTION: Notice of Meeting.

SUMMARY: In accordance with the Federal Advisory Committee Act, Pub. L. 92-463, as amended, the National Aeronautics and Space Administration announces a meeting of the NASA Advisory Council, Technology and Commercialization Advisory Committee.

DATES: Thursday, May 3, 2001, 8:30 a.m. to 5 p.m. and Friday, May 4, 2001, 8 a.m. to 12 Noon.

ADDRESSES: National Aeronautics and Space Administration, 300 E Street SW, Room 6H46, Washington, DC 20546.

FOR FURTHER INFORMATION CONTACT: Mr. Gregory M. Reck, Code R, National Aeronautics and Space Administration, Washington, DC 20546 (202/358-4700).

SUPPLEMENTARY INFORMATION: The meeting will be open to the public up to the seating capacity of the room. The agenda for the meeting is as follows:

—Status Update.

—Technology Core Competency Update.

—Work Plan for 2001 and 2002.

It is imperative that the meeting be held on these dates to accommodate the scheduling priorities of the key participants. Visitors will be requested to sign a visitor's register.

Dated: April 11, 2001.
Beth M. McCormick,
Advisory Committee Management Officer, National Aeronautics and Space Administration.

[FR Doc. 01-9381 Filed 4-12-01; 8:45 am]

BILLING CODE 7510-01-P